DEPARTMENT OF LABOR

Employment and Training Administration

[TA-W-65,209]

Spartan Light Metal Products Including On-Site Leased Workers From Defender Services and Manpower, Sparta, IL; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on April 9, 2009, applicable to workers of Spartan Light Metal Products, Sparta, Illinois. The notice will be published soon in the Federal Register.

At the request of the petitioner, the Department reviewed the certification for workers of the subject firm. The workers produce die cast parts for automotive and commercial drive train applications.

New information provided by the petitioner, and confirmed by the company official, show that the worker group includes on-site workers leased from Defender Services and Manpower.

The intent of the Department's certification is to include all workers of Spartan Light Metal Products, Inc., Sparta, Illinois, who were adversely affected secondary workers.

Accordingly, the Department is amending this certification to include on-site workers leased from Defender Services and Manpower.

The amended notice applicable to TA-W-65,209 is hereby issued as follows:

All workers of Spartan Light Metal Products, Inc., including on-site leased workers from Defender Services and Manpower, who became totally or partially separated from employment on or after February 9, 2008 through April 9, 2011, are eligible to apply for adjustment assistance under Section 223 of the Trade Act of 1974 and are also eligible to apply for alternative trade adjustment assistance under Section 246 of the Trade Act of 1974.

Signed at Washington, DC, this 25th day of June 2009.
Linda G. Poole,
Certifying Officer, Division of Trade Adjustment Assistance.

[FR Doc. E9-16629 Filed 7-13-09; 8:45 am]

BILLING CODE 4510-FN-P